DEPARTMENT OF COMMERCE

International Trade Administration

U.S. Travel and Tourism Advisory Board: Conference Call Meeting of the U.S. Travel and Tourism Advisory Board

AGENCY: International Trade Administration, U.S. Department of Commerce.

ACTION: Notice of an open conference call meeting.

SUMMARY: The U.S. Travel and Tourism Advisory Board (Board) will hold an open conference call meeting to discuss topics related to the travel and tourism industry. The Board was established on October 1, 2003, and reconstituted October 1, 2005, to advise the Secretary of Commerce on matters relating to the travel and tourism industry.

DATES: August 23, 2006.

Time: TBD.

For the Conference Call-In Number and Further Information Contact: The U.S. Travel and Tourism Advisory Board Executive Secretariat, Room 4043, Washington, DC, 20230, telephone: 202-482-4501, e-mail: Marc.Chittum@mail.doc.gov.

FOR FURTHER INFORMATION CONTACT: J. Marc Chittum, U.S. Travel and Tourism Advisory Board, Room 4043, 1401 Constitution Avenue, NW., Washington, DC, 20230, telephone: 202-482-4501, e-mail: Marc.Chittum@mail.doc.gov.

Dated: August 4, 2006.
J. Marc Chittum,
Executive Secretary, U.S. Travel and Tourism Advisory Board.

[FR Doc. 06-6842 Filed 8-7-06; 3:34 pm]

BILLING CODE 3510-DR-P